ENVIRONMENTAL PROTECTION AGENCY

[FRL-9909-64-Region-6]

Clean Water Act Section 303(d): Proposed Withdrawal of One Total Maximum Daily Load

AGENCY: Environmental Protection Agency.

ACTION: Notice of proposed withdrawal of one total maximum daily load.

SUMMARY: The Environmental Protection Agency (EPA) hereby issues notice of the proposed withdrawal of one Total Maximum Daily Load (TMDL) for lead, as found in the document titled “TMDLs for Lead and Siltation/Turbidity for Big Creek near Sheridan, Arkansas.” The TMDL was established by EPA in March of 2008. This proposed withdrawal action will not affect the TMDLs for Siltation/Turbidity established in the same TMDL document.

The aforementioned withdrawal action is being proposed based upon EPA's determination that the lead TMDL for Big Creek near Sheridan (reach 08040203-904) should not have been established due to data quality concerns which have been recently identified. Such concerns relate primarily to the location of the ambient monitoring station for Big Creek near Sheridan, and its questionable representativeness of the reach when it was first listed in 2004. In May of 2008, the monitoring station was relocated to a new site which is more representative of the reach. Should new data indicate impairment for lead, the reach would be placed back on the 303(d) list, and a TMDL would be required at that time.

DATES: Comments on the proposed withdrawal action must be submitted in writing to the EPA on or before May 21, 2014. The EPA is limiting the scope of comments specifically to the withdrawal action described herein. The EPA is not accepting comments on any other portion of the TMDL document, including the TMDLs developed for Siltation/Turbidity on the same reach (08040203-904).

ADDRESSES: Comments limited to the proposed withdrawal of the TMDL for Lead for Big Creek near Sheridan, Arkansas should be sent to Evelyn Rosborough, Water Quality Protection Division, U.S. Environmental Protection Agency Region 6, 1445 Ross Avenue Dallas, TX 75202-2733, or emailed to rosborough.evelyn@epa.gov. The administrative record files for the TMDL are available for public inspection at the previously listed address. Please contact Evelyn Rosborough (via mail, email, or by calling (214) 665-7515) to schedule an inspection or to obtain copies of relevant supporting documents.

SUPPLEMENTARY INFORMATION: The TMDLs were developed under EPA Contract Number 68-C-02-108. The Federal Register (FR) notice of availability, seeking public comments on the draft TMDLs, was published on December 17, 2007 (72 FR 71409). Public comments were received by January 16, 2008, and a response to each comment was provided. The Federal Register notice of availability for the final TMDLs was published on August 14, 2008 (see 73 FR 47596).

FOR FURTHER INFORMATION CONTACT: Evelyn Rosborough, Water Quality Protection Division, U.S. EPA Region 6, 1445 Ross Avenue, Dallas, TX 75202-2733, (214) 665-7515.

Dated: April 7, 2014.
William K. Honker,
Director, Water Quality Protection Division, EPA Region 6.

[FR Doc. 2014-09009 Filed 4-18-14; 8:45 am]

BILLING CODE 6560-50-P